DEPARTMENT OF AGRICULTURE

Forest Service

Metolius Basin Forest Management Project, Deschutes National Forest, Jefferson County, OR

AGENCY: Forest Service, USDA.

ACTION: Notice of intent to prepare an environmental impact statement.

SUMMARY: The USDA, Forest Service will prepare an environmental impact statement (EIS) to evaluate options for addressing forest health concerns in the southern half of the Metolius Basin. The main objectives of the project will be to reduce the risk of losing important forest habitats to catastrophic wildfire, insects and disease; reduce the risk of impacts from wildfire on residents, visitors and tribal resources; enhance late-successional habitats; protect and restore riparian areas; to evaluate the road network. The project area is located approximately 15 miles northwest of Sisters, Oregon.

The Forest Service Proposed Action would include combinations of thinning forest stands, mowing brush, and controlled burning of forest fuels on approximately 10,000 acres of the 17,000-acre project area. Approximately, 1,400 acres of thinning would occur within pre-existing tree plantations. Of the 1,800 acres of riparian reserves, an estimated 25% (450 acres) may be treated through thinning or prescribed burning using low impact methods (primarily implemented by hand crews). In addition, the Proposed Action would evaluate the current road network in the project area to identify a more efficient and environmentally sensitive road system. Options for managing the road system may include closing roads that are in excess of public needs, and improving maintenance on remaining roads to reduce resource impacts. No construction of permanent roads is proposed.

DATES: Issues and comments concerning the Proposed Action should be received by February 21, 2002.

ADDRESSES: Submit written comments regarding the Proposed Action to Kris Martinson, Project Team Leader, P.O. Box 249, Sisters, Oregon 97759.

FOR FURTHER INFORMATION CONTACT: Direct questions about the Proposed Action and EIS to Kris Martinson, Attention: Metolius Basin Forest Management Project, P.O. Box 249, Sisters, Oregon 97759, phone 541-549-7730.

SUPPLEMENTARY INFORMATION: The Metolius Basin is an important place for the many people who reside in, or visit the area. The community of Camp Sherman, 5 tracts of summer homes, and 9 popular recreation sites are located in the project area. The Metolius Basin also has important values for the Confederated Tribes of Warm Springs, whose reservation lies just north of the Sisters Ranger District, and through which a portion of the Metolius River flows. The Metolius Basin is also a place of very high ecological significance. It is a Late-Successional Reserve, and provides habitat for many rare plants and animals, including northern spotted owl, goshawk, white-headed woodpecker, bull trout, and Peck's penstemon.

Alternatives to be considered will include deferring any actions at this time (No Action) and several action alternatives that would include different methods for meeting the main objectives of the project. The selected alternative may result in an amendment to the LRMP (Forest Plan) standards and guidelines on visual quality due to the potential visibility of management activities (harvest debris, and scorched and blackened trees) beyond the one-year limit.

Preliminary issues that relate to the Proposed Action include: (1) The upper diameter limit of the trees that should be removed to meet project objectives, (2) potential effects on water quality in the Metolius Wild and Scenic River and its tributaries from thinning, (3) potential effects of the proposed action on late-successional species that are associated with dense, interior forests (the proposed actions will open up portions of the forest), (4) debate about the best actions to help reduce the risk of catastrophic wildfire, and (5) concern about changes in road access within the project area (some roads may be closed).

A scoping notice was sent out locally on October 10, 2001 indicating the Forest's intent to plan and implement actions in the Metolius Basin to address forest health and risk concerns. The scoping letter and additional information about this project is posted on the Deschutes National Forest website (www.fs.fed.us/r6/centraloregon). Future public participation opportunities will be available throughout the planning process.

The public is invited to offer suggestions and comments in writing. Comments received in response to this notice, including the names and addresses of those who comment, will be considered part of the public record on this proposal and will be available to public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is expected to be completed in October 2002. The comment period on the draft EIS will be 45 days from the date the Environmental Protection agency publishes the notice of availability in the Federal Register.

The Forest Service believes it is important to give reviewers notice at this early stage of several court rulings related to public participation in the environmental review process. First, reviewers of a draft EIS must structure their participation in the environmental review of the proposal so that it is meaningful and alerts an agency to the reviewer's position and contentions. [Vermont Yankee Nuclear Power Corp. v. NRDC, 435 U.S. 519, 553 (1978)]. Also, environmental objections that could be raised at the draft EIS stage but that are not raised until after completion of the final EIS may be waived or dismissed by the courts [City of Angoon v. Hodel, 803 F.2d 1016, 1022 (9th Cir. 1986) and Wisconsin Heritages, Inc. v. Harris, 490 F. Supp. 1334, 1338 (E.D. Wis. 1980)]. Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. (Reviewers may wish to refer to the Council on Environmental Quality Regulations for implementing the procedural provisions of the National Environmental Policy Act at 40 CFR 1503.3 in addressing these points.)

The final EIS is scheduled to be completed by February 2003. In the final EIS, the Forest Service is required to respond to comments and responses received during the comment period that pertain to the environmental consequences discussed in the draft EIS and applicable laws, regulations, and policies considered in making the decision regarding the Metolius Basin Forest Management Project.

The Forest Service is the lead agency. Leslie Weldon, Forest Supervisor, is the Responsible Official. The Responsible Official will determine which alternative best meets the purpose and need for this project and addresses the key issues raised about this project. The decision and rationale will be documented in the Record of Decision. That decision will be subject to Forest Service Appeal Regulations (36 CFR part 215).

Dated: January 3, 2002.
Leslie Weldon,
Forest Supervisor.

[FR Doc. 02-922 Filed 1-14-02; 8:45 am]

BILLING CODE 3410-11-M